DEPARTMENT OF ENERGY

[Docket No. EA-185-B]

Application to Export Electric Energy; Morgan Stanley Capital Group Inc.

AGENCY: Office of Electricity Delivery and Energy Reliability, DOE.

ACTION: Notice of Application.

SUMMARY: Morgan Stanley Capital Group Inc. (MSCG) has applied to renew its authorization to transmit electric energy from the United States to Canada pursuant to section 202(e) of the Federal Power Act.

DATES: Comments, protests or requests to intervene must be submitted on or before August 10, 2005.

ADDRESSES: Comments, protests or requests to intervene should be addressed as follows: Office of Electricity Delivery and Energy Reliability (Mail Code OE-20), U.S. Department of Energy, 1000 Independence Avenue, SW., Washington, DC 20585-0350 (FAX 202-586-5860).

FOR FURTHER INFORMATION CONTACT: Ellen Russell (Program Office) 202-586-9506 or Michael Skinker (Program Attorney) 202-586-2793.

SUPPLEMENTARY INFORMATION: Exports of electricity from the United States to a foreign country are regulated and require authorization under section 202(e) of the Federal Power Act (FPA) (16 U.S.C. 824a(e)).

On August 21, 1998, the Department of Energy (DOE) issued Order No. EA-185 authorizing MSCG to transmit electric energy from the United States to Canada as a power marketer. On August 14, 2000, in Order No. EA-185-A, DOE renewed the MSCG authorization to export electric energy to Canada for a five-year term that will expire on August 21, 2005.

On July 14, 2005, MSCG filed an application with DOE for renewal of the export authority contained in Order No. EA-185-A for a five-year term. MSCG proposes to purchase surplus electricity from selling entities and to export that electricity to Canada over the international transmission facilities presently owned by Basin Electric Power Corporative, Bonneville Power Administration, Eastern Maine Electric Power Cooperative, International Transmission Company, Joint Owners of the Highgate Interconnection Facilities, Long Sault Inc., Maine Electric Power Company, Maine Public Service Company, Minnesota Power & Light, Minnkota Power Cooperative, New York Power Authority, Niagara Mohawk Power Corp., Northern States Power, Vermont Electric Company, and Vermont Electric Transmission Company.

In its application, MSCG requested that DOE expedite the processing of this application so that MSCG is able to continue to supply power to neighboring parts of Canada during this summer's peak load periods. Accordingly, DOE has shortened the public comment period to 15 days.

Procedural Matters: Any person desiring to become a party to this proceeding or to be heard by filing comments or protests to these applications should file a petition to intervene, comment or protest at the address provided above in accordance with §§ 385.211 or 385.214 of the FERC's Rules of Practice and Procedures (18 CFR 385.211, 385.214). Fifteen copies of each petition and protest should be filed with the DOE on or before the date listed above.

Comments on the MSCG application to export electric energy to Canada should be clearly marked with Docket EA-185-B. Additional copies are to be filed directly with William F. McCoy, Managing Director and Counsel, Morgan Stanley & Co. Inc., 2000 Westchester Avenue, Purchase, NY 10577 and Daniel E. Frank, Sutherland Asbill & Brennan LLP, 1275 Pennsylvania Avenue, NW., Washington, DC 20004-2415.

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by accessing the program's home page at http://www.fe.doe.gov. Upon reaching the program's home page select “Electricity Regulation”, then “Pending Proceedings” from the options menus.

Issued in Washington, DC, on July 20, 2005.
Anthony J. Como,
Director, Permitting and Siting, Office of Electricity Delivery & Energy Reliability.

[FR Doc. 05-14687 Filed 7-25-05; 8:45 am]

BILLING CODE 6450-01-P